ENVIRONMENTAL PROTECTION AGENCY

[ER-FRL-8997-6]

Environmental Impacts Statements; Notice of Availability

Responsible Agency: Office of Federal Activities, General Information (202) 564-1399 or http://www.epa.gov/compliance/nepa/.

Weekly receipt of Environmental Impact Statements

Filed 06/13/2011 Through 06/17/2011

Pursuant to 40 CFR 1506.9.

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110188, Draft EIS, FHWA, TX, TX-99/Grand Parkway Improvement Project, Segment H and I-1, from United States Highway (US) 59 (N) to Interstate Highway (IH) 10 (E), Transportation Improvement, Right-of-Way Permit, Montgomery, Harris, Liberty and Chambers Counties, TX, Comment Period Ends: 09/21/2011, Contact: Daniel Mott 512-536-5964.

EIS No. 20110189, Draft EIS, USFS, MO, Integrated Non-Native Plant Control Project, Proposes a Forest-Wide Integrated Management Strategy to Control the Spread of Non-Native Invasive Plant Species (NNIP), Mark Twain National Forest in Portions of Barry, Bellinger, Boone, Butler, Callaway, Carter, Christian, Crawford, Dent, Douglas, Howell, Iron, Laclede, Madison, Oregon, Ozark, Phelps, Pulaski, Reynolds, Ripley, Shannon, Ste. Genevieve, St. Francois, Stone, Taney, Texas, Washington, Wayne and Wright Counties, MO, Comment Period Ends: 08/08/2011, Contact: Becky Bryan 573-341-7436.

EIS No. 20110190, Draft EIS, FRA, MS, Tupelo Railroad Relocation Planning and Environmental Study, To Improve Mobility and Safety by Reducing Roadway Congestion, City of Tupelo, MS, Comment Period Ends: 08/08/2011, Contact: John Winkle 202-493-6067.

EIS No. 20110191, Draft EIS, BPA, WA, Mid-Columbia Coho Restoration Program. Proposes to Fund the Construction Operation and Maintenance of the Program to help Mitigate for Anadromous Fish, Okanogan Counties, WA, Comment Period Ends: 08/08/2011, Contact: Stephanie Breeden 503-230-5192.

EIS No. 20110192, Draft EIS, USFS, NC, Uwharrie National Forest, Proposed Land and Resource Management Resource Plan, Implementation, Montgomery, Randolph and Davidson Counties, NC, Comment Period Ends: 09/21/2011, Contact: Ruth Berner 823-257-4862.

EIS No. 20110193, Final EIS, USAF, FL, Eglin Air Force Base (AFB) and Hurlburt Field, Proposes to Implement the Military Housing Privatization Initiative (MHPI), FL, Review Period Ends: 07/25/2011, Contact: Mike Spaits 850-882-2836.

EIS No. 20110194, Draft EIS, USACE, LA, Louisiana Coastal Area Barataria Basin Barrier Shoreline Restoration, To Restore the Barrier Shoreline Ecosystem and Significantly Reduce the Loss of Estuarine and Freshwater Wetlands, Caminada Headland in Lafourche and Jefferson Parishes and Shell Islands in Plaguemines Parish, LA, Comment Period Ends: 08/08/2011, Contact: Dr. William P. Klein, Jr. 504-862-2540.

EIS No. 20110195, Draft EIS, BOP, 00, Criminal Alien Requirement (CAR) 12 Procurement Project, To Award a Contract to House a Population of Approximately 1,750 Federal, Low-Security Adult Male Criminal Alien in a Contractor Owned and Operated Facility, Possible Site Selection: McRae Correctional Facility, McRae, Georgia, Great Plains Correctional Facility, Hinton, Oklahoma and Scott County, Mississippi, Comment Period Ends: 08/08/2011, Contact: Richard A. Cohn 202-514-6470.

EIS No. 20110196, Final Supplement, USACE, LA, New Orleans To Venice (NOV), Federal Hurricane Protection Levee. Restoring, Armoring and Accelerating the Completion of the Existing NOV, Plaquemines Parish, LA, Review Period Ends: 07/25/2011, Contact: Christopher Koeppel 601-631-5410

EIS No. 20110197, Final EIS, NRC, AK, Lost Creek In-Situ Uranium Recovery (ISR) Project, Proposal to Construct, Operate, Conduit Aquifer Restoration, and Decommission an In-Situ Recovery (ISR) Uranium Milling Facility, Sweetwater County, WY, Review Period Ends: 07/25/2011, Contact: Alan B. Bjornsen 301-415-1195.

EIS No. 20110198, Final EIS, NHTSA, 00, Medium-and Heavy-Duty Fuel Efficiency Improvement Program, Proposing Coordinated and Harmonized Fuel Consumption and Greenhouse Gas (GHG) Emissions Standards, United States, Review Period Ends: 07/25/2011, Contact: Angel Jackson 202-366-0154.

Amended Notices

EIS No. 20110117, Final EIS, BLM, CA, First Solar Desert Sunlight Solar Farm (DSSF) Project, Proposing To Develop a 550-Megawatt Photovoltaic Solar Project, Also Proposes to Facilitate the Construction and Operation of the Red Bluff Substation, California Desert Conservation Area (CDCA Plan, Riverside County, CA, Contact: Allison Shaffer 760-833-7104 The U.S. Department of Energy, has ADOPTED the U.S. Department of Interior, Bureau of Land Management FEIS #20110117, filed on 04/08/2011. DOE was a Cooperating Agency for the above project. Recirculation of the FEIS is not necessary under 40 CFR 1506.3(c).

Dated: June 21, 2011.
Cliff Rader,
Acting Director, NEPA Compliance Division, Office of Federal Activities.

[FR Doc. 2011-15887 Filed 6-23-11; 8:45 am]

BILLING CODE 6560-50-P